DEPARTMENT OF THE INTERIOR

Minerals Management Service

Gulf of Mexico, Outer Continental Shelf, Western Planning Area, Oil and Gas Lease Sale 192 (2004) Environmental Assessment

AGENCY: Minerals Management Service, Interior.

ACTION: Notice of availability of an environmental assessment.

SUMMARY: The Minerals Management Service (MMS) has prepared an environmental assessment (EA) for proposed Gulf of Mexico Outer Continental Shelf (OCS) Western Planning Area (WPA) Lease Sale 192. In this EA, MMS reexamined the potential environmental effects of the proposed action and its alternatives based on any new information regarding potential impacts and issues that were not available at the time the Gulf of Mexico OCS Oil and Gas Lease Sales: 2003-2007, Central Planning Area Sales 185, 190, 194, 198, and 201, and Western Planning Area Sales 187, 192, 196, and 200, Final Environmental Impact Statement, Volumes I and II (Multisale EIS) was completed in November 2002.

FOR FURTHER INFORMATION CONTACT: Minerals Management Service, Gulf of Mexico OCS Region, 1201 Elmwood Park Boulevard, New Orleans, Louisiana 70123-2394, Mr. Joseph Christopher, telephone (504) 736-2774.

SUPPLEMENTARY INFORMATION: Proposed WPA Lease Sale 192 is the third WPA lease sale scheduled in the Outer Continental Shelf Oil and Gas Leasing Program: 2002-2007 (5-Year Program). The Multisale EIS analyzed the effects of a typical lease sale by presenting a set of ranges for resource estimates, project exploration and development activities, and impact-producing factors for any of the proposed WPA lease sales. The level of activities projected for proposed Lease Sale 192 falls within these ranges. No new significant impacts were identified for proposed Lease Sale 192 that were not already assessed in the Multisale EIS. As a result, MMS determined that a supplemental EIS is not required and prepared a Finding of No New Significant Impact.

EA Availability

To obtain a copy of the EA, you may contact the Minerals Management Service, Gulf of Mexico OCS Region, Attention: Public Information Office (MS 5034), 1201 Elmwood Park Boulevard, Room 114, New Orleans, Louisiana 70123-2394 (1-800-200-GULF). You may also view the EA on the MMS Web site at http://www.gomr.mms.gov.

Dated: January 21, 2004.
Chris C. Oynes,
Regional Director, Gulf of Mexico OCS Region.

[FR Doc. 04-7768 Filed 4-5-04; 8:45 am]

BILLING CODE 4310-MR-P